DEPARTMENT OF HEALTH AND HUMAN SERVICES

National Institutes of Health

Center for Scientific Review; Amended Notice of Meeting

Notice is hereby given of a change in the meeting of the Center for Scientific Review Special Emphasis Panel, July 2, 2003, 10 a.m. to July 2, 2003, 11:30 a.m., National Institutes of Health, 6701 Rockledge Drive, Bethesda, MD, 20892 which was published in the Federal Register on June 20, 2003, 68 FR 37011-37012.

The meeting will be held on July 23, 2003. The time and location remain the same. The meeting is closed to the public.

Dated: June 27, 2003.
LaVerne Y. Stringfield,
Director, Office of Federal Advisory Committee Policy.

[FR Doc. 03-17071 Filed 7-3-03; 8:45 am]

BILLING CODE 4140-01-M